ENVIRONMENTAL PROTECTION AGENCY

40 CFR Part 52

[CA 284-0399a; FRL-7536-2]

Revisions to the California State Implementation Plan, Bay Area Air Quality Management District and San Joaquin Valley Unified Air Pollution Control District

AGENCY: Environmental Protection Agency (EPA).

ACTION: Direct final rule.

SUMMARY: EPA is taking direct final action to approve revisions to the Bay Area Air Quality Management District (BAAQMD) and San Joaquin Valley Unified Air Pollution Control District (SJVUAPCD) portions of the California State Implementation Plan (SIP). The BAAQMD revisions concern the emission of volatile organic compounds (VOCs) from the use of solvents and surface coatings. The SJVUAPCD revision concerns the emission of VOCs from a glycol dehydration system used on natural gas streams. We are approving local rules that regulate these emission sources under the Clean Air Act as amended in 1990 (CAA or the Act).

DATES: This rule is effective on October 27, 2003 without further notice, unless EPA receives adverse comments by September 25, 2003. If we receive such comments, we will publish a timely withdrawal in the Federal Register to notify the public that this rule will not take effect.

ADDRESSES: Mail comments to Andy Steckel, Rulemaking Office Chief (AIR-4), U.S. Environmental Protection Agency, Region IX, 75 Hawthorne Street, San Francisco, CA 94105; steckel.andrew@epa.gov.

You can inspect a copy of the submitted rules and EPA's technical support documents (TSDs) at our Region IX office during normal business hours. You may also see a copy of the submitted rules and TSDs at the following locations:

Air and Radiation Docket and Information Center, U.S. Environmental Protection Agency, (Mail Code 6102T), Room B-102, 1301 Constitution Avenue, NW., Washington, DC 20460.

California Air Resources Board, Stationary Source Division, Rule Evaluation Section, 1001 “I” Street, Sacramento, CA 95814.

Bay Area Air Quality Management District, 939 Ellis Street, San Francisco, CA 94109.

San Joaquin Valley Unified Air Pollution Control District, 1990 East Gettysburg Street, Fresno, CA 93726.

A copy of the rules may also be available via the Internet at http://www.arb.ca.gov/drdb/drdbltxt.htm. Please be advised that this is not an EPA Web site and may not contain the same version of the rule that was submitted to EPA.

FOR FURTHER INFORMATION CONTACT: Al Petersen, U.S. Environmental Protection Agency, Region IX, (415) 947-4118.

SUPPLEMENTARY INFORMATION: Throughout this document, “we,” “us” and “our” refer to EPA.

Table of Contents

I. The State's Submittal

A. What rules did the State submit?

B. Are there other versions of these rules?

C. What are the purposes of the submitted rules or rule revisions?

II. EPA's Evaluation and Action

A. How is EPA evaluating the rules?

B. Do the rules meet the evaluation criteria?

C. Public comment and final action

III. Background information

Why were these rules submitted?

IV. Statutory and Executive Order Reviews

I. The State's Submittal

A. What Rules Did the State Submit?

Table 1 lists the rules we are approving with the date that they were revised by the local air agencies and submitted by the California Air Resources Board (CARB).

Table 1.—Submitted Rules
Local agency | Rule No. | Rule title | Adopted or amended | Submitted
BAAQMD | 8-4 | General Solvent and Surface Coating Operations | Amended 10/16/02 | 04/01/03
BAAQMD | 8-16 | Solvent Cleaning Operations | Amended 10/16/02 | 04/01/03
SJVUAPCD | 4408 | Glycol Dehydration Systems | Adopted 12/19/02 | 04/01/03

On May 13, 2003, these submittals were found to meet the completeness criteria in 40 CFR Part 51 Appendix V, which must be met before formal EPA review.

B. Are There Other Versions of These Rules?

We gave a full approval to a version of BAAQMD Rule 8-4 on December 23, 1997 (62 FR 66998). We gave a limited approval/limited disapproval to a version of BAAQMD Rule 8-16 on April 16, 2003 (68 FR 18546). There is no version of SJVUAPCD Rule 4408 in the SIP.

C. What Are the Purposes of the Submitted Rules or Rule Revisions?

The purpose of the revisions to BAAQMD Rule 8-4 are to make the following changes:

• 8-4-110: Deleted is the exemption for water-base coatings and high-solids coatings that do not come in contact with a flame.

• 8-4-112: Deleted is the exemption for organic diluents that react in any operation such that no more than 20% volatilizes.

• 8-4-115: Added is an exemption for film cleaners using 1,1,1-trichloroethane exclusively.

• 8-4-116: Added are exemptions for specific operations that include (i) Surface preparation of electrical and electronic components, precision optics, or numismatic dies; (ii) stripping of cured inks, coatings, and adhesives or cleaning of resin, coating, ink, and adhesive mixing, molding, and application equipment; and (iii) surface preparation related to R&D operations, performance testing, and testing for quality control or quality assurance.

• 8-4-214: Added to the list of VOC not considered part of the coating are non-precursors methane, carbon monoxide, carbon dioxide, carbonic acid, metallic carbides or carbonates, ammonium carbonate, acetone, methyl acetate, parachlorobenzotrifluoride, and cyclic, completely-methylated siloxanes. Deleted from the list of VOC not considered part of the coating are various chlorinated and fluorinated hydrocarbons.

• 8-4-301: Deleted is the requirement that operations involving flame or heat to cure in the presence of oxygen do not emit more than 2.5 tons per year of VOC. This requirement would become 5 tons per year of VOC under section 8-4-302.1.

• 8-4-302.2: Added is the alternative requirement to sections 8-4-302.1 or 8-4-302.3 that emissions from surface coating or solvent use be controlled with an approved emission control system to an abatement efficiency of 85%.

• 8-4-302.3: Added is the alternative requirement to sections 8-4-302.1 or 8-4-302.2 that surface coatings contain no more than 420 grams per liter of VOC.

• 8-4-312: Added is the requirement with certain exceptions for cleanup of spray equipment that the solvent contain no more than 50 grams per liter of VOC.

• 8-4-313: Added is the requirement for surface preparation that the solvent contain no more than 50 grams per liter of VOC.

The purpose of the revisions to BAAQMD Rule 8-16 are to make the following changes and to correct deficiencies cited in the limited approval/limited disapproval action of April 16, 2003 (68 FR 18546):

• 8-16-121: Deleted is the limited exemption for one single cold cleaner per facility with less than 20 gallons per year solvent loss.

• 8-16-122: Deleted is the limited exemption for permitted cold cleaners.

• 8-16-123: Added are exemptions from section 8-16-303.5 for cleaning aerospace components; electrical and electronic components; precision optics; medical devices; resin, coating, ink, and adhesive application equipment; research and development equipment; performance testing equipment; and quality control equipment.

• 8-16-124: Added is an exemption from recordkeeping requirements for aqueous cleaning operations using solvent with less than 50 grams/liter VOC.

• 8-16-303.5: Added is a requirement for all repair and maintenance cleaning operations to use low VOC solvents with less than 50 grams/liter VOC, such as aqueous-based solvents or methyl siloxane-based solvents.

• 8-16-503: Added are recordkeeping requirements for approved emission control devices.

• 8-16-501: Revised to monthly from annually is the solvent use recordkeeping frequency (to correct a deficiency cited by EPA).

• 8-16-111, 8-16-602.2, and 8-16-602.3: Corrected are certain erroneous section references (to correct deficiencies cited by EPA).

The purpose of the new SJVUAPCD Rule 4408 is to reduce emissions of volatile organic compounds (VOCs) from a glycol dehydration system used on natural gas streams.

The TSDs have more information about these rules.

II. EPA's Evaluation and Action

A. How Is EPA Evaluating the Rules?

Generally, SIP rules must be enforceable (see section 110(a) of the CAA) and must not relax existing requirements (see sections 110(l) and 193). SIP rules must require Reasonably Available Control Technology (RACT) for major sources in ozone nonattainment areas (see section 182(a)(2)(A)).

The BAAQMD regulates a CAA subpart 1 ozone nonattainment area and the rules must fulfill the requirements of RACT. The SJVUAPCD regulates a severe ozone nonattainment area. See 40 CFR 81.305. The District identified the control of VOC emissions from natural gas dehydration systems in Rule 4408 as a Reasonably Available Control Measure (RACM) for implementation in 2003. See 2002 and 2005 Rate of Progress Plan, SJVUAPCD. Therefore, Rule 4408 must fulfill RACM/RACT requirements.

The following guidance documents were used for reference:

• Requirements for Preparation, Adoption, and Submittal of Implementation Plans, U.S. EPA, 40 CFR part 51.

• Portions of the proposed post-1987 ozone and carbon monoxide policy that concern RACT, 52 FR 45044 (November 24, 1987).

• Issues Relating to VOC Regulation Cutpoints, Deficiencies, and Deviations, EPA (May 25, 1988) (the Bluebook).

• Guidance Document for Correcting Common VOC & Other Rule Deficiencies, EPA Region IX (August 21, 2001) (the Little Bluebook).

• Determination of RACT and BARCT for Organic Solvent Cleaning and Degreasing Operations, California Air Resources Board (July 7, 1991).

• Control of VOE from Solvent Metal Cleaning, EPA-450-2-77-022 (November 1977).

B. Do the Rules Meet the Evaluation Criteria?

We believe all of the rules are consistent with the relevant policy and guidance regarding enforceability, SIP relaxations, and fulfilling RACT. All of the deficiencies identified in our previous limited approval/limited disapproval action on BAAQMD Rule 8-16 have been adequately addressed as follows:

• 8-16-501: The solvent use recordkeeping frequency is increased to monthly from annually.

• 8-16-111, 8-16-602.2, and 8-16-602.3: Corrected are certain erroneous section references.

C. Public Comment and Final Action

As authorized in section 110(k)(3) of the CAA, EPA is fully approving the submitted rules because we believe they fulfill all relevant requirements. We do not think anyone will object to this, so we are finalizing the approval without proposing it in advance. However, in the Proposed Rules section of this Federal Register, we are simultaneously proposing approval of the same submitted rules. If we receive adverse comments by September 25, 2003, we will publish a timely withdrawal in the Federal Register to notify the public that the direct final approval will not take effect and we will address the comments in a subsequent final action based on the proposal. If we do not receive timely adverse comments, the direct final approval will be effective without further notice on October 27, 2003. This will incorporate these rules into the federally-enforceable SIP. It will also permanently terminate all sanctions and FIP implications associated with our final action on BAAQMD Rule 8-16 on April 16, 2003 (68 FR 18546).

Please note that if EPA receives adverse comment on an amendment, paragraph, or section of this direct final rule and if that provision may be severed from the remainder of the rule, EPA may adopt as final those provisions of the rule that are not the subject of an adverse comment.

III. Background Information

Why Were These Rules Submitted?

VOCs help produce ground-level ozone, smog, and particulate matter which harm human health and the environment. EPA has established National Ambient Air Quality Standards (NAAQS) for ozone. Section 110(a) of the CAA requires states to submit regulations in order to achieve and maintain the NAAQS. Table 2 lists some of the national milestones leading to the submittal of local agency VOC rules.

Table 2.—Ozone Nonattainment Milestones
Date | Event
March 3, 1978 | EPA promulgated a list of ozone nonattainment areas under the Clean Air Act as amended in 1977. 43 FR 8964; 40 CFR 81.305.
May 26, 1988 | EPA notified Governors that parts of their SIPs were inadequate to attain and maintain the ozone standard and requested that they correct the deficiencies (EPA's SIP-Call). See section 110(a)(2)(H) of the pre-amended Act.
November 15, 1990 | Clean Air Act Amendments of 1990 were enacted. Pub. L. 101-549, 104 Stat. 2399, codified at 42 U.S.C. 7401-7671q.
May 15, 1991 | Section 182(a)(2)(A) requires that ozone nonattainment areas correct deficient RACT rules by this date.

IV. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the CAA. This rule also is not subject to Executive Order 13045, “Protection of Children from Environmental Health Risks and Safety Risks” (62 FR 19885, April 23, 1997), because it is not economically significant.

In reviewing SIP submissions, EPA's role is to approve state choices, provided that they meet the criteria of the CAA. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the CAA, petitions for judicial review of this action must be filed in the United States Court of Appeals for the appropriate circuit by October 27, 2003. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Reporting and recordkeeping requirements, Volatile organic compounds.

Dated: June 27, 2003.
Jane Diamond,
Acting Regional Administrator, Region IX.

Part 52, chapter I, title 40 of the Code of Federal Regulations is amended as follows:

PART 52—[AMENDED]

1. The authority citation for Part 52 continues to read as follows:

Authority: 42 U.S.C. 7401 et seq.

Subpart F—California

2. Section 52.220 is amended by adding paragraph (c)(315) to read as follows:

§ 52.220 Identification of plan.

* * * * *

(c) * * *

(315) New and amended regulations for the following APCDs were submitted on April 1, 2003, by the Governor's designee.

(i) Incorporation by reference.

(A) Bay Area Air Quality Management District.

(1) Rule 8-4, amended on October 16, 2002 and Rule 8-16, adopted on March 7, 1979 and amended on October 16, 2002.

(B) San Joaquin Valley Unified Air Pollution Control District.

(1) Rule 4408, adopted on December 19, 2002.

* * * * *

[FR Doc. 03-21584 Filed 8-25-03; 8:45 am]

BILLING CODE 6560-50-P